DEPARTMENT OF THE INTERIOR

National Park Service

[2031-A153-422]

Vegetation and Deer Management Plan/Environmental Impact Statement, Morristown National Historical Park, New Jersey

AGENCY: Department of the Interior, National Park Service.

ACTION: Notice of Intent to prepare an Environmental Impact Statement for a Vegetation and Deer Management Plan, Morristown National Historical Park, New Jersey.

SUMMARY: Pursuant to the National Environmental Policy Act of 1969, 42 U.S.C. 4332(2)(C), the National Park Service is preparing an Environmental Impact Statement (EIS) for a Vegetation and Deer Management Plan at Morristown National Historical Park (NHP), New Jersey. The purpose of this plan is to provide the framework for managing vegetation and deer browsing in order to promote a naturally regenerating hardwood forest with mixed-aged classes of trees that reflect the historic and naturally diverse character of the park. Action is needed now to meet the Congressional intent and the direction in the park's general management plan (GMP) of maintaining a naturally regenerating and sustainable forested landscape.

DATES: The National Park Service will accept comments from the public through August 15, 2011. The National Park Service intends to hold two public scoping meetings within the park at Washington's Headquarters Museum during the scoping period. Details regarding the exact dates and times of these meetings will be announced in the scoping newsletter, on the Internet (at http://www.nps.gov/morr and http://parkplanning.nps.gov/morr), and through local media at least 15 days in advance of the meetings.

ADDRESSES: Information will be available for public review and comment online at http://parkplanning.nps.gov/morr and at Washington's Headquarters Museum in Morristown National Historical Park, 30 Washington Place, Morristown, NJ 07960.

FOR FURTHER INFORMATION CONTACT: Superintendent, Morristown National Historical Park (973-539-2016, ext. 200).

SUPPLEMENTARY INFORMATION: Morristown NHP was established and is managed to reflect an 18th-century landscape pattern of field, forest, orchard and clearings that was present during the winter encampments of the Continental Army under General George Washington. The park's General Management Plan (GMP) further indicates that rather than recreate an exact replica of the encampment period, Morristown NHP will protect and foster the landscape to include a broader cultural and ecological context. The GMP also specifies that an important piece of this landscape and both its cultural and ecological contexts is a naturally regenerating mixed hardwood forest that reflects historic character, natural diversity, and natural processes. However, this critical element of the landscape is currently threatened, as native species show little or no regeneration.

Studies and ongoing monitoring show that the loss of regeneration appears to be primarily due to two forces: current levels of deer feeding and browsing, which contribute to lower tree seedling regeneration rates; and the expansion of non-native invasive species, which are outcompeting native species and depressing or eliminating native tree seedling regeneration rates over much of the forest.

Over time, the absence of regeneration will result in either: (1) Replacement of forest stands with species that do not reflect the forest's historic character or natural diversity, or (2) the disappearance of mixed hardwoods altogether.

The National Park Service will prepare a scoping newsletter which will present the issues and statements of purpose, need, and objectives of the Vegetation and Deer Management Plan that the NPS has identified to date during its internal scoping meetings. The newsletter also will provide information on upcoming public scoping meetings that will be held to gather feedback on these topics. Copies of that information will be available online at http://parkplanning.nps.gov/morr or at Morristown NHP's Washington's Headquarters Museum, 30 Washington Place, Morristown, New Jersey.

If you wish to comment on the purpose, need, objectives, or on any other issues associated with the plan, you may submit your comments by one of several methods: Via the Internet at http://parkplanning.nps.gov/morr (preferred method); at upcoming public scoping meetings; and by mailing or hand-delivering comments to Superintendent, 30 Washington Place, Morristown, NJ 07960. Before including your address, phone number, e-mail address, or other personal identifying information in your comment, you should be aware that your entire comment—including your personal identifying information—may be made publicly available at any time. While you can ask us in your comment to withhold your personal identifying information from public review, we cannot guarantee that we will be able to do so.

Dennis R. Reidenbach,
Regional Director, Northeast Region, National Park Service.

[FR Doc. 2011-17761 Filed 7-13-11; 8:45 am]

BILLING CODE 4310-JW-P